DEPARTMENT OF DEFENSE

Office of the Secretary

[Docket ID: DOD-2011-OS-0116]

Privacy Act of 1974; System of Records

AGENCY: Office of the Secretary, Department of Defense (DoD).

ACTION: Notice to amend a system of records.

SUMMARY: The Office of the Secretary of Defense is proposing to amend a system of records notice in its existing inventory of records systems subject to the Privacy Act of 1974, (5 U.S.C. 552a), as amended.

DATES: The changes will be effective on November 28, 2011 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974, (5 U.S.C. 552a), as amended, have been published in the Federal Register and are available from the address in FOR FURTHER INFORMATION CONTACT.

The specific changes to the records systems being amended are set forth below followed by the notices, as amended, published in their entirety. The proposed amendments are not within the purview of subsection (r) of the Privacy Act of 1974, (5 U.S.C. 552a), as amended, which requires the submission of a new or altered system report.

Dated: October 21, 2011.
Aaron Siegel,
Alternate OSD Federal Register Liaison Officer, Department of Defense.

DWHS P37

System name:

Grievance and Unfair Labor Practices Records (December 8, 2010, 75 FR 76430).

Changes:

* * * * *

System location:

Delete entry and replace with “Labor and Management Employee Relations Division, Human Resources Directorate, Washington Headquarters Services, 4800 Mark Center Drive, Suite 03D08, Alexandria, VA 22350-3200.”

* * * * *

System manager(s) and address:

Delete entry and replace with “Assistant Director, Labor and Management Employee Relations Division, Human Resources Directorate, Washington Headquarters Services, 4800 Mark Center Drive, Suite 03D08, Alexandria, VA 22350-3200.”

* * * * *

DWHS P37

System name:

Grievance and Unfair Labor Practices Records.

System location:

Labor and Management Employee Relations Division, Human Resources Directorate, Washington Headquarters Services, 4800 Mark Center Drive, Suite 03D08, Alexandria, VA 22350-3200.

Categories of individuals covered by the system:

Employees of the Office of the Secretary of Defense, Joint Staff, Washington Headquarters Services, and Department of Defense (DoD) Agencies and Field Activities serviced by Washington Headquarters Services Human Resources Directorate who have submitted grievances covered by a negotiated grievance procedure or unfair labor practice charges.

Categories of records in the system:

Case file contains individuals name, case number, subject of grievance, background papers, and details pertaining to the case or issue. Case files may also contain the following information that is not solicited from individuals: work and/or home addresses and telephone numbers and Social Security Numbers (SSN).

Authority for maintenance of the system:

5 U.S.C. 7121, Grievance Procedures; DoD 1400.25-M (Subchapter 771), DoD Civilian Personnel Manual (Administrative Grievance System); Washington Headquarters Services Administrative Instruction 37, Employee Grievances, and E.O. 9397 (SSN), as amended.

Purpose(s):

Records are used in the administration, processing, and resolution of unfair labor complaints, grievance arbitrations, negotiability, and representation issues. De-identified statistical data may be used by management for reporting and policy evaluation purposes.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To officials of labor organizations reorganized under the Civil Service Reform Act when relevant and necessary to the performance of their exclusive representation duties concerning personnel policies, practices, and matters affecting working conditions.

To representatives of the U.S. Office of Personnel Management (OPM) on matters relating to the inspection, survey, audit, or evaluation of civilian personnel management programs.

To the Comptroller General, or any of his authorized representatives, in the course of the performance of duties of the Government Accountability Office relating to the Labor-Management Relations Program.

To arbitrators, examiners, or other third parties appointed to inquire into or adjudicate labor-management issues.

The Blanket Routine Uses set forth at the beginning of the Office of the Secretary of Defense compilation of systems of notices also apply to this system of records.

Policies and practices for storing, retrieving, accessing, retaining, and disposing of records in the system:

Storage:

Paper file folders and electronic storage media.

Retrievability:

Names of individuals initiating grievance procedures, case number, and by subject matter.

Safeguards:

Records are maintained in areas only accessible to Labor Management Employee Relations personnel who must access the records to perform their official duties. The electronic records require a Common Access Card and can only be accessed by Labor Management Employee Relations personnel. Paper records are stored in locked file cabinets in secured offices and buildings that are locked and guarded during non-duty hours.

Retention and disposal:

Grievance files are disposed of four years after the case is closed.

System manager(s) and address:

Assistant Director, Labor and Management Employee Relations Division, Human Resources Directorate, Washington Headquarters Services, 4800 Mark Center Drive, Suite 03D08, Alexandria, VA 22350-3200.

Notification procedure:

Individuals seeking to determine whether information about themselves is contained in this system should address written inquiries to the Assistant Director for Labor and Management Employee Relations, Human Resources Directorate, Washington Headquarters Services, Department of Defense, 1155 Defense Pentagon, Washington, DC 20301-1155.

Record access procedures:

Individuals seeking access to information about themselves contained in this system should address written inquiries to the Office of the Secretary of Defense/Joint Staff Freedom of Information Act Requester Service Center, Office of Freedom of Information, 1155 Defense Pentagon, Washington, DC 20301-1155.

Requests should include the name and number of this system of records notice the type of issue (e.g., administrative grievance) and the case subject or case number and be signed and dated.

Contesting record procedures:

The Office of the Secretary of Defense rules for accessing records, for contesting contents and appealing initial agency determinations are published in Office of the Secretary of Defense Administrative Instruction 81, 32 CFR part 311, or may be obtained from the system manager.

Record source categories:

The individual, management officials involved with the incident leading to or adjudication of grievance or unfair labor practice charges, Washington Headquarters Service Labor Management Employee Relations personnel, arbitrators office, the Federal Labor Relations Authority Headquarters and Regional Offices, and union officials.

Exemptions claimed for the system:

None.

[FR Doc. 2011-27736 Filed 10-26-11; 8:45 am]

BILLING CODE 5001-06-P